SECURITIES AND EXCHANGE COMMISSION

[Release No. IC-26742]

Notice of Applications for Deregistration Under Section 8(f) of the Investment Company Act of 1940

January 28, 2005.

The following is a notice of applications for deregistration under section 8(f) of the Investment Company Act of 1940 for the month of January, 2005. A copy of each application may be obtained for a fee at the SEC's Public Reference Branch, 450 Fifth St., NW., Washington, DC 20549-0102 (tel. 202-942-8090). An order granting each application will be issued unless the SEC orders a hearing. Interested persons may request a hearing on any application by writing to the SEC's Secretary at the address below and serving the relevant applicant with a copy of the request, personally or by mail. Hearing requests should be received by the SEC by 5:30 p.m. on February 23, 2005, and should be accompanied by proof of service on the applicant, in the form of an affidavit or, for lawyers, a certificate of service. Hearing requests should state the nature of the writer's interest, the reason for the request, and the issues contested. Persons who wish to be notified of a hearing may request notification by writing to the Secretary, SEC, 450 Fifth Street, NW., Washington, DC 20549-0609. For Further Information Contact: Diane L. Titus at (202) 942-0564, SEC, Division of Investment Management, Office of Investment Company Regulation, 450 Fifth Street, NW., Washington, DC 20549-0504.

Golden Oak Family of Funds [File No. 811-21118]

Summary: Applicant seeks an order declaring that it has ceased to be an investment company. On September 29, 2004, applicant transferred its assets to corresponding series of Federated Municipal Securities Income Trust and Goldman Sachs Trust, based on net asset value. Expenses of $71,914 incurred in connection with the reorganization were paid by CB Capital Management, Inc., applicant's investment adviser.

Filing Date: The application was filed on January 6, 2005.

Applicant's Address: Federated Investors Tower, 1001 Liberty Ave., Pittsburgh, PA 15222-3779.

Seix Funds, Inc. [File No. 811-8323]

Summary: Applicant seeks an order declaring that it has ceased to be an investment company. On September 23, 2004, applicant transferred its assets to corresponding series of STI Classic Funds, based on net asset value. Expenses of $222,068 incurred in connection with the reorganization were paid by Seix Investment Advisors, Inc., applicant's investment adviser.

Filing Dates: The application was filed on December 30, 2004, and amended on January 20, 2005.

Applicant's Address: 300 Tice Blvd., Woodcliff Lake, NJ 07675-7633.

MBIA Capital/Claymore Managed Duration Investment Grade New York Municipal Fund [File No. 811-21360];

MBIA Capital/Claymore Managed Duration New Jersey Municipal Trust [File No. 811-21362];

MBIA Capital/Claymore Managed Duration Investment Grade California Municipal Fund [File No. 811-21363]

Summary: Each applicant, a closed-end management company, seeks an order declaring that it has ceased to be an investment company. The applicants have never made a public offering of their securities and do not propose to make a public offering or engage in business of any kind.

Filing Dates: The applications were filed on November 12, 2004, and amended on January 14, 2005.

Applicants' Address: 113 King St., Armonk, NY 10504.

Minnesota Municipal Term Trust Inc. II [File No. 811-6517]

Summary: Applicant, a closed-end investment company, seeks an order declaring that it has ceased to be an investment company. On April 10, 2003, applicant made a liquidating distribution to its shareholders, based on net asset value. Prior to the liquidation date, applicant's preferred stock was redeemed at its liquidation preference, plus accumulated but unpaid dividends through the redemption date. Expenses of $5,392 incurred in connection with the liquidation were paid by applicant and U.S. Bancorp Asset Management, Inc., applicant's investment adviser.

Filing Date: The application was filed on December 29, 2004.

Applicant's Address: U.S. Bancorp Asset Management, Inc., 800 Nicollet Mall, Minneapolis, MN 55402.

Amstar Investment Trust [File No. 811-9405]

Summary: Applicant seeks an order declaring that it has ceased to be an investment company. On September 30, 2004, applicant made a liquidating distribution to its shareholders, based on net asset value. Expenses of $2,743 incurred in connection with the liquidation were paid by Amstar Investment Management Company, LLC, applicant's investment adviser.

Filing Date: The application was filed on January 5, 2005.

Applicant's Address: 14 Penn Plaza, 225 West 34th St., Suite 718, New York, NY 10122.

First American Insurance Portfolios, Inc. [File No. 811-9765]

Summary: Applicant seeks an order declaring that it has ceased to be an investment company. On September 3, 2004, applicant made a final liquidating distribution to its shareholders, based on net asset value. Expenses of $34,274 incurred in connection with the liquidation were paid by U.S. Bancorp Investment Management, Inc., applicant's investment adviser.

Filing Date: The application was filed on December 29, 2004.

Applicant's Address: U.S. Bancorp Asset Management, Inc., 800 Nicollet Mall, Minneapolis, MN 55402.

The Scott James Fund, Inc. [File No. 811-9809]

Summary: Applicant seeks an order declaring that it has ceased to be an investment company. Applicant has 39 shareholders and presently is not making a public offering and does not propose to make a public offering. Applicant will continue to operate as a private investment fund in reliance on section 3(c)(1) of the Act.

Filing Dates: The application was filed on June 18, 2004 and amended on September 27, 2004, December 1, 2004, and January 11, 2005.

Applicant's Address: 6700 Arlington Blvd., Falls Church, VA 22042.

Credit Suisse Select Funds [File No. 811-9531]

Summary: Applicant seeks an order declaring that it has ceased to be an investment company. On April 26, 2002, applicant's last remaining series transferred its assets to Credit Suisse Global Technology Fund Inc., based on net asset value. All expenses incurred in connection with the reorganization were born by Credit Suisse Asset Management, LLC, applicant's investment adviser, and/or its affiliates.

Filing Dates: The application was filed on April 29, 2003, and amended on November 25, 2003.

Applicant's Address: 466 Lexington Ave., New York, NY 10017.

CML/OFFITBANK Separate Account [File No. 811-7361]

Summary: Applicant seeks an order declaring that it has ceased to be an investment company. Applicant requests deregistration based on abandonment of registration. At the time of filing, Applicant had no shareholders or contractholders.

Filing Dates: The application was filed on December 8, 2003 and amended and restated on November 16, 2004.

Applicant's Address: 1295 State Street, Springfield, Massachusetts 01111-001

For the Commission, by the Division of Investment Management, pursuant to delegated authority.
Margaret H. McFarland,
Deputy Secretary.

[FR Doc. E5-403 Filed 2-2-05; 8:45 am]

BILLING CODE 8010-01-P